DEPARTMENT OF HEALTH AND HUMAN SERVICES

Centers for Disease Control and Prevention

[30Day-15-15CF]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Health Insurance Plans Research Study—New—Office of Health System Collaboration, Office of the Associate Director for Policy, Office of the Director, Centers for Disease Control and Prevention (CDC).

Background and Brief Description

The CDC Office of the Associate Director for Policy intends to request that the Office of Management and Budget (OMB) approve a new collection of information under the Paperwork Reduction Act for three years. This data collection will occur once, and respondents will be surveyed once.

The Health Insurance Plans Research Study will uniquely examine the prevalence, characteristics, and differences of prevention and wellness programs offered by health insurance plans in this critical era of healthcare reform. There are no known studies that have addressed the prevalence of prevention and wellness programs across health plans or explored the granular details of these programs as this study is intended to do. Not conducting this study would be one less step toward increasing healthy years of life.

Furthermore, the Health Insurance Plans Research Study will address the priorities and goals of the CDC Office of the Associate Director for Policy, Office of Health System Collaboration: (a) Identify and catalyze policy opportunities such as the Affordable Care Act to enhance healthcare transformation, (b) advance CDC's public health-healthcare strategy to improve population health, (c) strengthen strategic partnerships with healthcare systems and payers, federal and non-federal, and (d) fully leverage performance measures as a tool to improve the health of individuals across health systems and payers.

The results of this study are of great interest not only to the CDC Office of the Associate Director for Policy but to other CDC Centers, Institutes, and Offices; and other federal agencies and partners such as the Health Resources and Services Administration (HRSA), the members of the CDC Advisory Committee to the Director, and the CDC Public Health-Health Care Collaboration Workgroup (federal, state, and local public health; public and private organizations; healthcare providers; professional membership associations; and academia representation).

CDC will select a sample of approximately 150 commercial health insurance plans in the United States that differ by size and geography, in the 50 states and the District of Columbia, to complete a web-based survey, the Prevention and Wellness Assessment Survey. The project team will provide information and instructions about the survey to health plan points of contact in advance. The team will also make information and instructions available on the Web site, eliminating any interactions between the respondent and the project team, unless a respondent(s) has questions or concerns during completion of the survey.

The Prevention and Wellness Assessment Survey will take approximately 30 minutes to complete per respondent for a total estimated burden of 75 hours. Key health plan contacts (e.g., medical directors, nurse directors, or other healthcare professional) will incur burden associated with coordinating the time and identifying a person to take the survey. The burden associated with this activity is estimated at 30 minutes per key health plan contact for a maximum of one key contact per health plan (1 key contact × 150 health plans = 150 key contacts), resulting in a total burden of 75 hours. In addition, administrative support staff at select health plans may assist with coordinating communications between key health plan points of contact and America's Health Insurance (AHIP). The estimated administrative support burden is 30 minutes per health plan, resulting in a total burden of 75 hours.

Following the analysis of survey data, the project team will conduct one-hour telephone interviews with no more than nine health plans (1 hour × 9 health plans) to gain a better understanding of lessons learned and best practices associated with the design and implementation of prevention and wellness programs by commercial health insurance plans. The project team will use this information to build upon the knowledge gained through the survey. For example, there may be differences in how health plans structure prevention and wellness programs for different employer accounts based on employer requests. The estimated burden is one hour per health plan, resulting in a total burden of nine hours.

Best practices in outreach will be utilized to maximize survey response rates. Key health plan contacts at non-responding health plans will receive follow up by telephone, and one-to-one assistance will be provided if needed.

The government intends to accomplish the following as a result of this data collection: (a) Identify high priority opportunities for public health and healthcare collaboration, (b) inform a public health-healthcare strategic agenda, (c) improve the use of clinical preventive services, and (d) improve capacity of healthcare systems to incorporate public health practices and principles. At the conclusion of this study, a formal report, two issue briefs, and potentially a manuscript for publication will be produced.

There are no costs to respondents other than their time. The total estimated annualized burden hours are 234.

Estimated Annualized Burden Hours
Type of respondent | Form name | Number of respondents | Number of responses per respondent | Average burden per response (in hours)
Physician, Nurse, or Other Healthcare Professional (To Complete Survey) | Prevention and Wellness Assessment Survey | 150 | 1 | 30/60
Key Health Plan Contact | Coordinating & Identifying Activity | 150 | 1 | 30/60
Administrative Support | Communication Coordination Activity | 150 | 1 | 30/60
Physician, Nurse, or Other Healthcare Professional (To Complete 1-hour Interview Post Survey) | Telephone Interview | 9 | 1 | 1

Leroy A. Richardson,
Chief, Information Collection Review Office, Office of Scientific Integrity, Office of the Associate Director for Science, Office of the Director, Centers for Disease Control and Prevention.

[FR Doc. 2015-07034 Filed 3-26-15; 8:45 am]

BILLING CODE 4163-18-P